CONSUMER PRODUCT SAFETY COMMISSION

Sunshine Act Meetings

Time and Date: Wednesday, March 3, 2010, 9 a.m.-12 Noon.

Place: Hearing Room 420, Bethesda Towers, 4330 East-West Highway, Bethesda, Maryland.

Status: Commission Meeting—Open to the Public.

MATTERS TO BE CONSIDERED:

1. Civil Penalty Factors—Final Rule

A live webcast of the Meeting can be viewed at http://www,cpsc.gov/webcast/index.html.

For a recorded message containing the latest agenda information, call (301) 504-7948.

CONTACT PERSON FOR MORE INFORMATION: Todd A. Stevenson, Office of the Secretary, U.S. Consumer Product Safety Commission, 4330 East-West Highway, Bethesda, MD 20814, (301) 504-7923.

Dated: February 22, 2010.
Todd A. Stevenson,
Secretary.

[FR Doc. 2010-4029 Filed 3-1-10; 8:45 am]

BILLING CODE 6355-01-M